DEPARTMENT OF TRANSPORTATION

Office of the Secretary

14 CFR Chs. I, II and III

23 CFR Chs. I, II and III

33 CFR Chs. I and IV

46 CFR Chs. I, II and III

48 CFR Ch. 12

49 CFR Subtitle A, Chs. I-VI and Chs. X-XII

[OST Docket 99-5129]

Department Regulatory Agenda; Semiannual Summary

AGENCY: Office of the Secretary, DOT.

ACTION: Semiannual Regulatory Agenda.

SUMMARY: The Regulatory Agenda is a semiannual summary of all current and projected rulemakings, reviews of existing regulations, and completed actions of the Department. The Agenda provides the public with information about the Department of Transportation's regulatory activity. It is expected that this information will enable the public to be more aware of and allow it to more effectively participate in the Department's regulatory activity. The public is also invited to submit comments on any aspect of this Agenda.

FOR FURTHER INFORMATION CONTACT:

General

You should direct all comments and inquiries on the Agenda in general to Neil R. Eisner, Assistant General Counsel for Regulation and Enforcement, Department of Transportation, 1200 New Jersey Avenue SE., Washington, DC 20590; (202) 366-4723.

Specific

You should direct all comments and inquiries on particular items in the Agenda to the individual listed for the regulation or the general rulemaking contact person for the operating administration in Appendix B. Individuals who use a telecommunications device for the deaf (TDD) may call (202) 755-7687.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to assure that they continue to meet the needs for which they originally were designed. To view additional information about the Department of Transportation's regulatory activities online, go to http://www.dot.gov/regulations. Among other things, this Web site provides a report, updated monthly, on the status of the DOT significant rulemakings listed in the Semiannual Regulatory Agenda.

To help the Department achieve these goals and in accordance with Executive Order (EO) 12866, “Regulatory Planning and Review,” (58 FR 51735; Oct. 4, 1993) and the Department's Regulatory Policies and Procedures (44 FR 11034; Feb. 26, 1979), the Department prepares a Semiannual Regulatory Agenda. It summarizes all current and projected rulemaking, reviews of existing regulations, and completed actions of the Department. These are matters on which action has begun or is projected during the succeeding 12 months or such longer period as may be anticipated or for which action has been completed since the last Agenda.

The Agendas are based on reports submitted by the offices initiating the rulemaking and are reviewed by the Department Regulations Council.

The Internet is the basic means for disseminating the Unified Agenda. The complete Unified Agenda is available online at www.reginfo.gov, in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list see section heading “Explanation of Information on the Agenda”) on these entries is available in the Unified Agenda published on the Internet.

Significant/Priority Rulemakings

The Agenda covers all rules and regulations of the Department. We have classified rules as a DOT agency priority in the Agenda if they are, essentially, very costly, beneficial, controversial, or of substantial public interest under our Regulatory Policies and Procedures. All DOT agency priority rulemaking documents are subject to review by the Secretary of Transportation. If the Office of Management and Budget (OMB) decide a rule is subject to its review under Executive Order 12866, we have classified it as significant in the Agenda.

Explanation of Information on the Agenda

An Office of Management and Budget memorandum, dated June 13, 2012, requires the format for this Agenda.

First, the Agenda is divided by initiating offices. Then, the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for a decision on whether to take the action; (8) whether the rulemaking will affect small entities and/or levels of government and, if so, which categories; (9) whether a Regulatory Flexibility Act (RFA) analysis is required (for rules that would have a significant economic impact on a substantial number of small entities); (10) a listing of any analyses an office will prepare or has prepared for the action (with minor exceptions, DOT requires an economic analysis for all its rulemakings.); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.” One such example of this are the letters “SB,” “IC,” “SLT.” These refer to information used as part of our required reports on Retrospective Review of DOT rulemakings. A “Y” or an “N,” for yes and no, respectively, follow the letters to indicate whether or not a particular rulemaking would have effects on: Small businesses (SB); information collections (IC); or State, local, or tribal (SLT) governments.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which we expect to make a decision on whether to issue it. In addition, these dates are based on current schedules. Information received subsequent to the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as make the Agenda easier to use. We would like you, the public, to make suggestions or comments on how the Agenda could be further improved.

Reviews

We also seek your suggestions on which of our existing regulations you believe need to be reviewed to determine whether they should be revised or revoked. We particularly draw your attention to the Department's review plan in appendix D. In response to Executive Order 13563 “Retrospective Review and Analysis of Existing Rules,” we have prepared a retrospective review plan providing more detail on the process we use to conduct reviews of existing rules, including changes in response to Executive Order 13563. We provided the public opportunities to comment at regulations.gov and IdeaScale on both our process and any existing DOT rules the public thought needed review. The plan and the results of our review can be found at http://www.dot.gov/regulations.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of government or Indian tribes. Therefore, we encourage State and local governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: November 2, 2012.
Ray LaHood,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See appendix C for more information.

(Name of contact person), (Name of the DOT agency), 1200 New Jersey Avenue SE., Washington, DC 20590. (For the Federal Aviation Administration, substitute the following address: Office of Rulemaking, ARM-1, 800 Independence Avenue SW., Washington, DC 20591).

Appendix B—General Rulemaking Contact Persons

The following is a list of persons who can be contacted within the Department for general information concerning the rulemaking process within the various operating administrations.

FAA—Rebecca MacPherson, Office of Chief Counsel, Regulations and Enforcement Division, 800 Independence Avenue SW., Room 915A, Washington, DC 20591; telephone (202) 267-3073.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Shelton, Office of Chief Counsel, 1200 New Jersey Avenue SE., Room W31-214, Washington, DC 20590; telephone (202) 493-6063.

FTA—Richard Wong, Office of Chief Counsel, 1200 New Jersey Avenue SE., Room E56-308, Washington, DC 20590; telephone (202) 366-0675.

SLSDC—Carrie Mann Lavigne, Chief Counsel, 180 Andrews Street, Massena, NY 13662; telephone (315) 764-3200.

PHMSA—Patricia Burke, Office of Chief Counsel, 1200 New Jersey Avenue SE., Washington, DC 20590; telephone (202) 366-4400.

MARAD—Christine Gurland, Office of Chief Counsel, Maritime Administration, 1200 New Jersey Avenue SE., Washington, DC 20590; telephone (202) 366-5157.

RITA—Robert Monniere, Office of Chief Counsel, 1200 New Jersey Avenue SE., Washington, DC 20590; telephone (202) 366-5498.

OST—Neil Eisner, Office of Regulation and Enforcement, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at, or deliver comments on proposed rulemakings to, the Dockets Office at 1200 New Jersey Avenue SE., Room W12-140, Washington, DC 20590, 1-800-647-5527. Working Hours: 9-5.

Appendix D—Review Plans for Section 610 and Other Requirements

Part I—The Plan

General

The Department of Transportation has long recognized the importance of regularly reviewing its existing regulations to determine whether they need to be revised or revoked. Our 1979 Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if needed, will initiate rulemaking actions based on these reviews.

In accordance with Executive Order 13563, “Improving Regulation and Regulatory Review,” issued by the President on January 18, 2011, the Department has added other elements to its review plan. The Department has decided to improve its plan by adding special oversight processes within the Department; encouraging effective and timely reviews, including providing additional guidance on particular problems that warrant review; and expanding opportunities for public participation. These new actions are in addition to the other steps described in this Appendix.

Section 610 Review Plan

Section 610 requires that we conduct reviews of rules that (1): Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Other Review Plan(s)

All elements of the Department, except for the Federal Aviation Administration (FAA), have also elected to use this 10-year plan process to comply with the review requirements of the Department's Regulatory Policies and Procedures and Executive Order 12866.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a Presidentially-mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in Appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

The FAA, in addition to reviewing its rules in accordance with the section 610 Review Plan, has established a tri-annual process to comply with the review requirements of the Department's Regulatory Policies and Procedures, Executive Order 12866, and Plain Language Review Plan. The FAA's latest review notice was published November 15, 2007 (72 FR 64170). In that notice, the FAA requested comments from the public to identify those regulations currently in effect that it should amend, remove, or simplify. The FAA also requested the public to provide any specific suggestions where rules could be developed as performance-based rather than prescriptive, and any specific plain language that might be used, and provide suggested language on how those rules should be written. The FAA will review the issues addressed by the commenters against its regulatory agenda and rulemaking program efforts and adjust its regulatory priorities consistent with its statutory responsibilities. At the end of this process, the FAA will publish a summary and general disposition of comments and indicate, where appropriate, how it will adjust its regulatory priorities.

Part III—List of Pending Section 610 Reviews

The Agenda identifies the pending DOT section 610 Reviews by inserting “(Section 610 Review),” after the title for the specific entry. For further information on the pending reviews, see the Agenda entries at www.reginfo.gov. For example, to obtain a list of all entries that is section 610 Reviews under the Regulatory Flexibility Act, a user would select the desired responses on the search screen (by selecting “advanced search”) and, in effect, generate the desired “index” of reviews.

Office of the Secretary—Proposed Rule Stage
Sequence No. | Title | Regulation Identifier No.
337 | +Enhancing Airline Passenger Protections III | 2105-AE11
+ DOT-designated significant regulation.

Office of the Secretary—Final Rule Stage
Sequence No. | Title | Regulation Identifier No.
338 | +Use of the Seat-Strapping Method for Carrying a Wheelchair on an Aircraft | 2105-AD87
+ DOT-designated significant regulation.

Federal Aviation Administration—Proposed Rule Stage
Sequence No. | Title | Regulation Identifier No.
339 | +Operation and Certification of Small Unmanned Aircraft Systems (sUAS) | 2120-AJ60
340 | +Flight Crewmember Mentoring, Leadership and Professional Development (HR 5900) | 2120-AJ87
+ DOT-designated significant regulation.

Federal Aviation Administration—Final Rule Stage
Sequence No. | Title | Regulation Identifier No.
341 | +Qualification, Service, and Use of Crewmembers and Aircraft Dispatchers | 2120-AJ00
342 | +Pilot Certification and Qualification Requirements (Formerly First Officer Qualification Requirements) (HR 5900) | 2120-AJ67
343 | +Safety Management Systems for Certificate Holders (Section 610 Review) | 2120-AJ86
+ DOT-designated significant regulation.

Federal Motor Carrier Safety Administration—Proposed Rule Stage
Sequence No. | Title | Regulation Identifier No.
344 | +Electronic Logging Devices and Hours of Service Supporting Documents | 2126-AB20
345 | +Inspection, Repair, and Maintenance; Driver-Vehicle Inspection Report (RRR) | 2126-AB46
+ DOT-designated significant regulation.

Federal Motor Carrier Safety Administration—Final Rule Stage
Sequence No. | Title | Regulation Identifier No.
346 | +Unified Registration System | 2126-AA22
347 | Self Reporting of Out-of-State Convictions (RRR) (Section 610 Review) | 2126-AB43
+ DOT-designated significant regulation.

Federal Railroad Administration—Proposed Rule Stage
Sequence No. | Title | Regulation Identifier No.
348 | +Critical Incident Stress Plan; “Critical Incident” Definition | 2130-AC00
349 | Risk Reduction Program (RRR) | 2130-AC11
350 | +Positive Train Control Systems: De Minimis Exception, Yard Movements, En Route Failures; Miscellaneous Grade Crossing/Signal and Train Control Amendments (RRR) | 2130-AC32
+ DOT-designated significant regulation.

Federal Railroad Administration—Final Rule Stage
Sequence No. | Title | Regulation Identifier No.
351 | Roadway Worker Protection; Miscellaneous Revisions | 2130-AB89
352 | +Training Standards for Railroad Employees (RRR) | 2130-AC06
353 | +Emergency Escape Breathing Apparatus (RRR) | 2130-AC14
354 | Passenger Train Emergency Systems; Doors, Emergency Lighting, Emergency Signage and Markings for Egress and Access, and Low-Location Emergency Exit Path Marking; Miscellaneous Amendments | 2130-AC22
355 | Amendments Expanding the Drug Panel for FRA Post-Accident Toxicological Testing | 2130-AC24
356 | Track Safety Standards: Improving Rail Integrity (RRR) | 2130-AC28
357 | Railroad System Safety Program | 2130-AC31
358 | Revisions to Passenger Train Emergency Preparedness Regulations | 2130-AC33
359 | Roadway Worker Protection; Adjacent-Track On-Track Safety—Response to Petitions for Reconsideration | 2130-AC37
360 | Telephonic Notification at Grade Crossings—Response to Petitions for Reconsideration | 2130-AC38
361 | Locomotive Safety Standards Amendments—Response to Petitions for Reconsideration | 2130-AC39
+ DOT-designated significant regulation.

Pipeline and Hazardous Materials Safety Administration—Proposed Rule Stage
Sequence No. | Title | Regulation Identifier No.
362 | +Pipeline Safety: Safety of On-Shore Liquid Hazardous Pipelines | 2137-AE66
363 | Pipeline Safety: Miscellaneous Amendments Related to Reauthorization and Petitions for Rulemaking (RRR) | 2137-AE94
+ DOT-designated significant regulation.

Pipeline and Hazardous Materials Safety Administration—Final Rule Stage
Sequence No. | Title | Regulation Identifier No.
364 | +Hazardous Materials: Revisions to Requirements for the Transportation of Lithium Batteries | 2137-AE44
365 | Hazardous Materials: Miscellaneous Amendments (RRR) (Section 610 Review) | 2137-AE78
+ DOT-designated significant regulation.

Maritime Administration—Long-Term Actions
Sequence No. | Title | Regulation Identifier No.
366 | +Regulations To Be Followed by All Departments, Agencies and Shippers Having Responsibility To Provide a Preference for U.S.-Flag Vessels in the Shipment of Cargoes on Ocean Vessels (RRR) | 2133-AB74
+ DOT-designated significant regulation.

DEPARTMENT OF TRANSPORTATION (DOT)

Office of the Secretary (OST)

Proposed Rule Stage

337. +Enhancing Airline Passenger Protections III

Legal Authority: 49 U.S.C. 41712; 49 U.S.C. 40101;49 U.S.C. 41702

Abstract: This rulemaking would address the following issues: (1) Whether the Department should require a marketing carrier to provide assistance to its code-share partner when a flight operated by the code-share partner experiences a lengthy tarmac delay; (2) whether the Department should enhance disclosure requirements on code-share operations, including requiring on-time performance data, reporting of certain data code-share operations, and codifying the statutory amendment of 49 U.S.C. 41712(c) regarding Web site schedule disclosure of code-share operations; (3) whether the Department should expand the on-time performance “reporting carrier” pool to include smaller carriers; (4) whether the Department should require travel agents to adopt minimum customer service standards in relation to the sale of air transportation; (5) whether the Department should require ticket agents to disclose the carriers whose tickets they sell or do not sell and information regarding any incentive payments they receive in connection with the sale of air transportation; (6) whether the Department should require ticket agents to disclose any preferential display of individual fares or carriers in the ticket agent's Internet displays; (7) whether the Department should require additional or special disclosures regarding certain substantial fees, e.g., oversize or overweight baggage fees; (8) whether the Department should prohibit post-purchase price increase for all services and products not purchased with the ticket or whether it is sufficient to prohibit post-purchase prices increases for baggage charges that traditionally have been included in the ticket price; and (9) whether the Department should require that ancillary fees be displayed through all sale channels.

Timetable:

Action | Date | FR Cite
Supplemental NPRM | 05/00/13

Regulatory Flexibility Analysis Required: Yes.

Agency Contact: Blane A Workie, Attorney, Department of Transportation, Office of the Secretary, 1200 New Jersey Avenue SE., Washington, DC 20590, Phone: 202-366-9342, TDD Phone: 202 755-7687, Fax: 202 366-7152, Email: blane.workie@ost.dot.gov.

RIN: 2105-AE11

DEPARTMENT OF TRANSPORTATION (DOT)

Office of the Secretary (OST)

Final Rule Stage

338. +Use of the Seat-Strapping Method for Carrying a Wheelchair on an Aircraft

Legal Authority: 49 U.S.C. 41705

Abstract: This rulemaking would address whether carriers should be allowed to utilize the seat-strapping method to stow a passenger´s wheelchair in the aircraft cabin.

Timetable:

Action | Date | FR Cite
NPRM | 06/03/11 | 76 FR 32107
NPRM Comment Period End | 08/02/11
Final Rule | 01/00/13

Regulatory Flexibility Analysis Required: Yes.

Agency Contact: Blane A Workie, Attorney, Department of Transportation, Office of the Secretary, 1200 New Jersey Avenue SE., Washington, DC 20590, Phone: 202-366-9342, TDD Phone: 202-755-7687, Fax: 202-366-7152, Email: blane.workie@ost.dot.gov.

RIN: 2105-AD87

BILLING CODE 4910-9X-P

DEPARTMENT OF TRANSPORTATION (DOT)

Federal Aviation Administration (FAA)

Proposed Rule Stage

339. +Operation and Certification of Small Unmanned Aircraft Systems (SUAS)

Legal Authority: 49 U.S.C. 44701; Pub. L. 112-95

Abstract: This rulemaking would enable small unmanned aircraft to safely operate in limited portions of the national airspace system (NAS). This action is necessary because it addresses the novel legal or policy issues about the minimum safety parameters for operating recreational remote control model and toy aircraft in the NAS. The intended effect of this action is to develop requirements and standards to ensure that risks are adequately mitigated, such that safety is maintained for the entire aviation community.

Timetable:

Action | Date | FR Cite
NPRM | 06/00/13 |

Regulatory Flexibility Analysis Required: Yes.

Agency Contact: Stephen A Glowacki, Department of Transportation, Federal Aviation Administration, 800 Independence Ave. SW., Washington, DC 20591, Phone: 202-385-4898, Email: stephen.a.glowacki@faa.gov.

RIN: 2120-AJ60

340. +Flight Crewmember Mentoring, Leadership and Professional Development (HR 5900)

Legal Authority: 49 U.S.C. 44701(a)(5); Pub. L. 111-216, sec 206

Abstract: This rulemaking would amend the regulations for air carrier training programs under part 121. The action is necessary to ensure that air carriers establish or modify training programs that address mentoring, leadership, and professional development of flight crewmembers in part 121 operations. The amendments are intended to contribute significantly to airline safety by reducing aviation accidents and respond to the mandate in Public Law 111-216.

Timetable:

Action | Date | FR Cite
NPRM | 02/00/13

Regulatory Flexibility Analysis Required: Yes.

Agency Contact: Deke Abbott, Department of Transportation, Federal Aviation Administration, 800 Independence Ave. SW., Washington, DC 20591, Phone: 202 267-8266, Email: deke.abbott@faa.gov.

RIN: 2120-AJ87

DEPARTMENT OF TRANSPORTATION (DOT)

Federal Aviation Administration (FAA)

Final Rule Stage

341. +Qualification, Service, and Use of Crewmembers and Aircraft Dispatchers

Legal Authority: 49 U.S.C. 106(g); 49 U.S.C. 40113; 49 U.S.C. 40119; 49 U.S.C. 44101; 49 U.S.C. 44701; 49 U.S.C. 44702; 49 U.S.C. 44705; 49 U.S.C. 44709 to 44711; 49 U.S.C. 44713; 49 U.S.C. 44716; 49 U.S.C. 44717; 49 U.S.C. 44722; 49 U.S.C. 44901; 49 U.S.C. 44903; 49 U.S.C. 44904; 49 U.S.C. 44912; 49 U.S.C. 46105

Abstract: This rulemaking would amend the regulations for crewmember and dispatcher training programs in domestic, flag, and supplemental operations. The rulemaking would enhance traditional training programs by requiring the use of flight simulation training devices for flight crewmembers and including additional training requirements in areas that are critical to safety. The rulemaking would also reorganize and revise the qualification and training requirements. The changes are intended to contribute significantly to reducing aviation accidents.

Timetable:

Action | Date | FR Cite
NPRM | 01/12/09 | 74 FR 1280
Proposed rule; notice of public meeting | 03/12/09 | 74 FR 10689
NPRM Comment Period Extended | 04/20/09 | 74 FR 17910
Comment Period End | 05/12/09 |
Extended Comment Period End | 08/10/09 |
Supplemental NPRM | 05/20/11 | 76 FR 29336
Comment Period Extended | 06/23/11 | 76 FR 36888
Comment Period End | 07/19/11 |
Comment Period End | 09/19/11 |
Final Rule | 10/00/13 |

Regulatory Flexibility Analysis Required: No.

Agency Contact: Nancy L Claussen, Federal Aviation Administration, Department of Transportation, Federal Aviation Administration, 800 Independence Ave. SW., Washington, DC 20591, Phone: 202 267-8166, Email: nancy.claussen@faa.gov.

RIN: 2120-AJ00

342. +Pilot Certification and Qualification Requirements (Formerly First Officer Qualification Requirements) (HR 5900)

Legal Authority: 49 U.S.C. 106(g); 49 U.S.C. 35301 to 45302; 49 U.S.C. 40113; 49 U.S.C. 40119; 49 U.S.C. 41706; 49 U.S.C. 44101; 49 U.S.C. 44701(a)(5); 49 U.S.C. 44701 to 44703; 49 U.S.C. 44705; 49 U.S.C. 44707; 49 U.S.C. 44709 to 44711; 49 U.S.C. 44713; 49 U.S.C. 44716; 49 U.S.C. 44722; 49 U.S.C. 45102 to 45103; 49 U.S.C. 46105; 49 U.S.C. 44717; Pub. L. 111-216

Abstract: This rulemaking would amend the eligibility and qualification requirements for pilots engaged in part 121 air carrier operations. Additionally, it would modify the requirements for an airline transport pilot certificate. These actions are necessary because recent airline accidents and incidents have brought considerable attention to the experience level and training of air carrier flight crews. This rulemaking is a result of requirements in Public Law 111-216.

Timetable:

Action | Date | FR Cite
ANPRM | 02/08/10 | 75 FR 6164
ANPRM Comment Period End | 04/09/10 |
NPRM | 02/29/12 | 77 FR 12374
NPRM Comment Period End | 04/30/12 |
Final Rule | 05/00/13 |

Regulatory Flexibility Analysis Required: Yes.

Agency Contact: Barbara Adams, Department of Transportation, Federal Aviation Administration, 800 Independence Ave. SW., Washington, DC 20591, Phone: 202 267-8166, Email: barbara.adams@faa.gov.

RIN: 2120-AJ67

343. +Safety Management Systems for Certificate Holders (Section 610 Review)

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717; 49 U.S.C. 44722; 49 U.S.C. 46105; Pub. L. 111-216, sec 215

Abstract: This rulemaking would require each certificate holder operating under 14 CFR part 121 to develop and implement a safety management system (SMS) to improve the safety of its aviation related activities. A safety management system is a comprehensive, process-oriented approach to managing safety throughout an organization. An SMS includes an organization-wide safety policy; formal methods for identifying hazards, controlling, and continually assessing risk and safety performance; and promotion of a safety culture. SMS stresses not only compliance with technical standards but increased emphasis on the overall safety performance of the organization.This rulemaking is required under Public Law 111-216, section 215.

Timetable:

Action | Date | FR Cite
NPRM | 11/05/10 | 75 FR 68224
NPRM Comment Period Extended | 01/31/11 | 76 FR 5296
NPRM Comment Period End | 02/03/11 |
NPRM Comment Period Extended End | 03/07/11 |
Final Rule | 04/00/13 |

Regulatory Flexibility Analysis Required: Yes.

Agency Contact: Scott VanBuren, Department of Transportation, Federal Aviation Administration, 800 Independence Ave. SW., Washington, DC 20591, Phone: 202 494-8417, Email: scott.vanburen@faa.gov.

RIN: 2120-AJ86

BILLING CODE 4910-13-P

DEPARTMENT OF TRANSPORTATION (DOT)

Federal Motor Carrier Safety Administration (FMCSA)

Proposed Rule Stage

344. +Electronic Logging Devices and Hours of Service Supporting Documents

Legal Authority: 49 U.S.C. 31502; 31136(a); Pub. L. 103.311; 49 U.S.C. 31137(a)

Abstract: This rulemaking would establish: (1) Minimum performance standards for electronic logging devices (ELDs); (2) requirements for the mandatory use of the devices by drivers required to prepare handwritten records of duty status (RODS); (3) requirements concerning HOS supporting documents; and (4) measures to ensure that the mandatory use of ELDs will not result in harassment of drivers by motor carriers and enforcement officials. This rulemaking would supplement the Agency's February 1, 2011, Notice of Proposed Rulemaking (NPRM) and address issues raised by the U.S. Court of Appeals for the Seventh Circuit Court in its 2011 decision vacating the Agency's April 5, 2010, final rule concerning ELDs. This action would improve compliance with the hours-of-service (HOS) rules and thereby decrease the risk of fatigue-related crashes attributable to non-compliance with the applicable HOS requirements.

Timetable:

Action | Date | FR Cite
NPRM | 02/01/11 | 76 FR 5537
NPRM Comment Period End | 02/28/11 |
Comment Period Extended | 03/10/11 | 76 FR 13121
Extended Comment Period End | 05/23/11 |
Supplemental NPRM | 07/00/13 |

Regulatory Flexibility Analysis Required: Yes.

Agency Contact: Deborah M. Freund, Senior Transportation Specialist, Department of Transportation, Federal Motor Carrier Safety Administration, 1200 New Jersey Avenue SE., Washington, DC 20590, Phone: 202-366-5370, Email: deborah.freund@dot.gov.

RIN: 2126-AB20

345. +Inspection, Repair, and Maintenance; Driver-Vehicle Inspection Report (RRR)

Legal Authority: 49 U.S.C. 31136; 49 U.S.C. 31502

Abstract: This rulemaking would rescind the requirement that commercial motor vehicle (CMV) drivers operating in interstate commerce submit, and motor carriers retain, driver-vehicle inspection reports when the driver has neither found nor been made aware of any vehicle defects or deficiencies. Specifically, this rulemaking would remove a significant information collection burden without adversely impacting safety. This rulemaking would remove a significant information collection burden without adversely impacting safety. The value of the time saved by eliminating the paperwork burden associated with the filing of no-defect DVIRs is more than 1 billion dollars per year. This rulemaking responds in part to the President's January 2012 Regulatory Review and Reform initiative.

Timetable:

Action | Date | FR Cite
NPRM | 05/00/13 |

Regulatory Flexibility Analysis Required: Yes.

Agency Contact: Sean Gallagher, MC-PRR, Department of Transportation, Federal Motor Carrier Safety Administration, 1200 New Jersey Ave. SE., Washington, DC 20590, Phone: 202 366-3740, Email: sean.gallagher@dot.gov.

RIN: 2126-AB46

DEPARTMENT OF TRANSPORTATION (DOT)

Federal Motor Carrier Safety Administration (FMCSA)

Final Rule Stage

346. +Unified Registration System

Legal Authority: Pub. L. 104-88; 109 Stat 803, 888 (1995); 49 U.S.C. 13908; Pub. L. 109-159, sec 4304

Abstract: This rule would establish a new Unified Registration System (URS) to replace three legacy systems in support of FMCSA´s safety and commercial oversight responsibilities. It would require all entities subject to FMCSA jurisdiction to comply with a new URS registration and biennial update requirement, disclose the cumulative registration information collected by URS and provides a cross-reference to all regulatory requirements necessary to obtain permanent registration. It implements statutory provisions in the ICC Termination Act and SAFTEA-LU. URS would serve as a clearinghouse and depository of information on, and identification of, brokers, freight forwarders, and others required to register with the Department of Transportation. The agency has determined the total net societal benefits of the rule to be $19.5 million and the total societal costs to be $26.5 million.

Timetable:

Action | Date | FR Cite
ANPRM | 08/26/96 | 61 FR 43816
ANPRM Comment Period End | 10/25/96 |
NPRM | 05/19/05 | 70 FR 28990
NPRM Comment Period End | 08/17/05 |
Supplemental NPRM | 10/26/11 | 76 FR 66506
Comment Period End | 12/27/11 |
Final Rule | 04/00/13 |

Regulatory Flexibility Analysis Required: Yes.

Agency Contact: Valerie Height, Management Analyst, Department of Transportation, Federal Motor Carrier Safety Administration, Office of Policy (MC-PRR), 1200 New Jersey Avenue SE., Washington, DC 20590, Phone: 202-366-0901, Email: valerie.height@dot.gov.

RIN: 2126-AA22

347. Self Reporting of Out-of-State Convictions (RRR) (Section 610 Review)

Legal Authority: Commercial Motor Vehicle Safety Act of 1986

Abstract: This rulemaking would clarify the requirement for holders of commercial drivers licenses (CDL) convicted of violating traffic laws in a State other than the State that issued their CDL, to notify the State of issuance about those violations under part 383.31 of FMCSA's Commercial Drivers License Standards; and clarify the requirement for the licensing agency from the jurisdiction in which the conviction takes place to notify the State licensing Agency that issued the CDL under part 384.209 State Compliance with Commercial Drivers License Program. This rulemaking would also ensure that notifications required in sections 383.31 and 384.209 take place within 30 days of the conviction.

Timetable:

Action | Date | FR Cite
NPRM | 08/02/12 | 77 FR 46010
NPRM Comment Period End | 10/01/12 |
Final Rule | 06/00/13 |

Regulatory Flexibility Analysis Required: No.

Agency Contact: Robert Redmond, Senior Transportation Specialist, Department of Transportation, Federal Motor Carrier Safety Administration, 1200 New Jersey Avenue SE., Washington, DC 20590, Phone: 202-366-5014, Email: robert.redmond@dot.gov.

RIN: 2126-AB43

BILLING CODE 4910-EX-P

DEPARTMENT OF TRANSPORTATION (DOT)

Federal Railroad Administration (FRA)

Proposed Rule Stage

348. +Critical Incident Stress PLAN; “Critical Incident” Definition

Legal Authority: Pub. L. 110-432, Div A, 122 Stat 4848 et seq.; Rail Safety Improvement Act of 2008 sec 410(c)

Abstract: This rulemaking would seek to define the term “critical incident.” This rulemaking would also seek to define program elements appropriate for the rail environment for certain railroad´s critical incident response programs, so that appropriate action is taken when a railroad employee is involved in or directly witnesses a critical incident.

Timetable:

Action | Date | FR Cite
NPRM | 05/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC00

349. Risk Reduction Program (RRR)

Legal Authority: Pub. L. 110-432, Div A, 122 Stat 4848 et seq.; Rail Safety Improvement Act of 2008; sec 103, 49 U.S.C. 20156 “Railroad Safety Risk Reduction Program”

Abstract: This rulemaking would require each Class I railroad and each railroad with inadequate safety performance to develop and implement a Risk Reduction Program (RRP) to improve the safety of their operations. Each RRP would be required to include a risk analysis, a technology implementation plan, and a fatigue management plan. Railroads would be required to conduct annual internal assessments of their RRPs, which could also be externally audited by FRA.

Timetable:

Action | Date | FR Cite
ANPRM | 12/08/10 | 75 FR 76345
ANPRM Comment Period End | 02/07/11 |
NPRM | 05/00/13 |

Regulatory Flexibility Analysis Required: Yes.

Agency Contact: Kathryn Shelton, Trial Attorney, Department of Transportation, Federal Railroad Administration, 1200 New Jersey Ave SE., Washington, DC 20590, Phone: 202 493-6063, Email: kathryn.shelton@fra.dot.gov.

RIN: 2130-AC11

350. +Positive Train Control Systems: De Minimis Exception, Yard Movements, En Route Failures; Miscellaneous Grade Crossing/Signal and Train Control Amendments (RRR)

Legal Authority: 49 U.S.C. 20102 to 20103; 28 U.S.C. 2461, note; 49 CFR 1.49; 49 U.S.C. 20107; 49 U.S.C. 20133; 49 U.S.C. 20141; 49 U.S.C. 20157; 49 U.S.C. 20301 to 20303; 49 U.S.C. 20306; 49 U.S.C. 21301 to 21302; 49 U.S.C. 21304

Abstract: This rulemaking would revise Positive Train Control regulations by defining the de minimis exception and en route failures, proposing exceptions relating to yard movements that may not be considered on the main line system, and amending regulations governing grade crossing and signal and train control systems. The rulemaking is in response to a petition for rulemaking from the Association of American Railroads.

Timetable:

Action | Date | FR Cite
NPRM | 12/11/12 | 77 FR 73589
NPRM Comment Period End | 02/11/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC32

DEPARTMENT OF TRANSPORTATION (DOT)

Federal Railroad Administration (FRA)

Final Rule Stage

351. Roadway Worker Protection; Miscellaneous Revisions

Legal Authority: 28 U.S.C. 2461; 49 CFR 1.49; 49 U.S.C. 20103; 49 U.S.C. 20107; 49 U.S.C. 21301; 49 U.S.C. 21304

Abstract: This rulemaking would revise FRA's Roadway Worker Protection regulations in 49 CFR, Part 214, to further advance the on-track safety of railroad employees and contractors engaged in maintenance-of-way activities throughout the general railroad system of transportation, including clarification of existing regulations. In doing so, FRA will review existing technical bulletins and a safety advisory dealing with on-track safety to consider implications, and as appropriate, consider enhancements to the existing regulations.

Timetable:

Action | Date | FR Cite
NPRM | 08/20/12 | 77 FR 50324
NPRM Comment Period End | 10/19/12 |
Final Rule | 10/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AB89

352. +Training Standards for Railroad Employees (RRR)

Legal Authority: Pub. L. 110 thru 432, Div A, 122 Stat 4848 et seq.; Railroad Safety Improvement Act of 2008; sec 401 (49 U.S.C. 20162)

Abstract: This rulemaking would (1) Establish minimum training standards for each class or craft of safety-related employee and equivalent railroad contractor and subcontractor employee that require railroads, contractors, and subcontractors to qualify or otherwise document the proficiency of such employees in each such class and craft regarding their knowledge and ability to comply with Federal railroad safety laws and regulations and railroad rules and procedures intended to implement those laws and regulations, etc.; (2) require submission of railroads', contractors', and subcontractors' training and qualification programs for FRA approval; and (3) establish a minimum training curriculum and ongoing training criteria, testing, and skills evaluation measures for track and equipment inspectors employed by railroads and railroad contractor and subcontractors. It is anticipated that crane operator provisions contained in this rulemaking will further the objectives of EO 13563.

Timetable:

Action | Date | FR Cite
NPRM | 02/07/12 | 77 FR 6412
NPRM Comment Period End | 04/09/12 |
Final Rule | 05/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC06

353. +Emergency Escape Breathing Apparatus (RRR)

Legal Authority: Pub. L. 110-432, Div A, 122 Stat 4848 et seq.; Rail Safety Improvement Act of 2008; sec 413 49 U.S.C. 20166

Abstract: This rulemaking would prescribe regulations that require railroads to provide specified emergency escape breathing apparatus for all crew members in locomotive cabs on freight trains carrying poison-inhalation-hazard hazardous material and provide training in its use.

Timetable:

Action | Date | FR Cite
NPRM | 10/05/10 | 75 FR 61386
NPRM Comment Period End | 12/06/10 |
Final Rule | 07/00/13 |

Regulatory Flexibility Analysis Required: Yes.

Agency Contact: Kathryn Shelton, Trial Attorney, Department of Transportation, Federal Railroad Administration, 1200 New Jersey Ave. SE., Washington, DC 20590, Phone: 202-493-6063, Email: kathryn.shelton@fra.dot.gov.

RIN: 2130-AC14

354. Passenger Train Emergency Systems; Doors, Emergency Lighting, Emergency Signage and Markings for Egress and Access, and Low-Location Emergency Exit Path Marking; Miscellaneous Amendments

Legal Authority: 28 U.S.C. 241, note; 49 CFR 1.49; 49 U.S.C. 20103, 20107, 20133, 20141, 20302 to 20303, 20306, 20701 to 20702; 49 U.S.C. 21301 to 21302, 21304

Abstract: This rulemaking would amend the passenger equipment safety standards to enhance standards for passenger train emergency systems and would clarify the passenger train emergency preparedness standards. Specifically, FRA would incorporate by reference three APTA emergency system standards: “Standard for Emergency Lighting System Design for Passenger Cars,” “Standard for Emergency Signage for Egress/Access of Passenger Rail Equipment,” and “Standard for Low-Location Exit Path Marking.” Miscellaneous amendments to FRA's existing regulations would include: (1) Clarifying that new passenger cars must have at least two exterior side doors, one on each side; (2) requiring removable panels/windows in vestibule doors for new passenger cars; (3) consolidating various door requirements into one section for easier reference; and (4) revising part 239 to explicitly address train crew participation in debrief and critique sessions.

Timetable:

Action | Date | FR Cite
NPRM | 01/03/12 | 77 FR 154
NPRM Comment Period End | 03/05/12 |
Final Rule | 02/00/13 |

Regulatory Flexibility Analysis Required: Yes.

Agency Contact: Kathryn Shelton, Trial Attorney, Department of Transportation, Federal Railroad Administration, 1200 New Jersey Ave. SE., Washington, DC 20590, Phone: 202-493-6063, Email: kathryn.shelton@fra.dot.gov.

RIN: 2130-AC22

355. Amendments Expanding the Drug Panel for FRA Post-Accident Toxicological Testing

Legal Authority: 28 U.S.C. 2461, note; 49 CFR 1.49(m); 49 U.S.C. 20103; 49 U.S.C. 20107; 49 U.S.C. 20140; 49 U.S.C. 21301; 49 U.S.C. 21304

Abstract: This rulemaking would expand the drug testing panel for FRA's post-accident toxicological testing (PATT) program, which investigates the role of alcohol and drug use in serious train accidents. This rulemaking would also amend the requirements regarding the analysis of PATT results in 49 CFR 219.211 to reflect that some of the drugs in the expanded panel are prescription and over-the-counter drugs that are not controlled substances. FRA has tested for the same basic panel of drugs since the beginning of PATT in 1985. Currently, FRA tests blood and urine specimens for eight drug classifications: alcohol, marijuana, cocaine, the opiates, the amphetamines, phencyclidine (PCP), the barbiturates, and the benzodiazepines. FRA would expand the PATT panel to include synthetic opiates, sedating antihistamines, MDMA and one of its analogues, and additional benzodiazepines. This rulemaking does not make any substantive changes to the prohibitions on the abuse of controlled substances and prescription drugs found in 49 CFR 219.102 and 219.103.

Timetable:

Action | Date | FR Cite
NPRM | 05/17/12 | 77 FR 29307
NPRM Comment Period End | 07/16/12 |
Final Rule | 01/00/13 |

Regulatory Flexibility Analysis Required: Yes.

Agency Contact: Kathryn Shelton, Trial Attorney, Department of Transportation, Federal Railroad Administration, 1200 New Jersey Ave. SE., Washington, DC 20590, Phone: 202-493-6063, Email: kathryn.shelton@fra.dot.gov.

RIN: 2130-AC24

356. Track Safety Standards: Improving Rail Integrity (RRR)

Legal Authority: 28 U.S.C. 2461, note; 49 CFR 1.49; 49 U.S.C. 20102 to 20114; 49 U.S.C. 20142; sec 403, Div A; Pub. L. 110-432, 122 Stat 4885

Abstract: This rulemaking would prescribe specific requirements for effective rail inspection frequencies, rail flaw remedial actions, minimum operator qualifications, and requirements for rail inspection records. In addition, it would remove the regulatory requirements concerning joint bar fracture reporting. Section 403(c) of the Rail Safety Improvement Act of 2008 mandates that FRA promulgate regulations addressing rail flaw detection inspections.

Timetable:

Action | Date | FR Cite
NPRM | 10/19/12 | 77 FR 64249
NPRM Comment Period End | 12/18/12 |
Final Rule | 09/00/13 |

Regulatory Flexibility Analysis Required: Yes.

Agency Contact: Kathryn Shelton, Trial Attorney, Department of Transportation, Federal Railroad Administration, 1200 New Jersey Ave. SE., Washington, DC 20590, Phone: 202-493-6063, Email: kathryn.shelton@fra.dot.gov.

RIN: 2130-AC28

357. Railroad System Safety Program

Legal Authority: 49 U.S.C. 20103; 49 U.S.C. 20107; 49 U.S.C. 20133; 49 U.S.C. 21301 to 21302; 49 U.S.C. 21304; 49 U.S.C. 21311; 28 U.S.C. 2461, note; 49 CFR 1.49

Abstract: This rulemaking would improve passenger railroad safety through structured, proactive processes and procedures developed by passenger railroad operators. It would require passenger railroads to establish a System Safety Program that would systematically evaluate and manage risks in order to reduce the number and rates of railroad accidents, incidents, injuries and fatalities. This rulemaking was bifurcated from 2130-AC11.

Timetable:

Action | Date | FR Cite
NPRM | 09/07/12 | 77 FR 55372
NPRM Comment Period End | 11/06/12 |
Final Rule | 07/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC31

358. Revisions to Passenger Train Emergency Preparedness Regulations

Legal Authority: 49 U.S.C. 20103; 49 U.S.C. 20107; 49 U.S.C. 20133; 49 U.S.C. 20141; 49 U.S.C. 20302 to 20303; 49 U.S.C. 20306; 49 U.S.C. 20701 to 20702; 49 U.S.C. 21301 to 21302; 49 U.S.C. 21304; 28 U.S.C. 2461, note; 49 CFR 1.49

Abstract: The rulemaking would propose a series of unrelated revisions to 49 CFR part 239. These proposed revisions would: (1) Create a definition for emergency response communication centers to ensure that railroad personnel who coordinate first responders receive control center employee training provided by part 239; (2) require railroads develop procedures to promote the safe evacuation of disabled passengers; (3) make the FRA emergency preparedness plan approval process more efficient; and (4) create new testing and inspection requirements for railroads covered by part 239. These revisions are based on a recommendation made to FRA by the Railroad Safety Advisory Committee.

Timetable:

Action | Date | FR Cite
NPRM | 06/27/12 | 77 FR 38248
NPRM Comment Period End | 08/27/12 |
Final Rule | 05/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC33

359. Roadway Worker Protection; Adjacent-Track On-Track Safety—Response to Petitions for Reconsideration

Legal Authority: 49 U.S.C. 20103

Abstract: This rulemaking would respond to petitions for reconsideration of the final rule published on November 30, 2011. FRA received two petitions for reconsideration of the final rule from railroad industry organizations. The first petition raised concern with the final rule's cost-benefit analysis and requested several amendments to the final rule to lessen the potential costs. The second petition discussed the final rule's potential impact on passenger train service/resultant costs and requested an amendment to the final rule to allow passenger trains to travel at higher speeds when passing maintenance of way work zones implicated by the rulemaking. This Final Rule will make amendments to the original Adjacent-Track On-Track Safety Final Rule.

Timetable:

Action | Date | FR Cite
Final Rule | 01/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC37

360. • Telephonic Notification at Grade Crossings—Response to Petitions for Reconsideration

Legal Authority: 28 U.S.C. 2461, note; 49 CFR 1.49; 49 U.S.C. 20103; 49 U.S.C. 20107; 49 U.S.C. 20152; 49 U.S.C. 21301; 49 U.S.C. 21304; 49 U.S.C. 21311; 49 U.S.C. 22501, note; Pub. L. 110-432, Div, sec 202, 205

Abstract: The rulemaking would respond to petitions for reconsideration of the final rule published June 12, 2012. This final rule will make amendments to the original Systems for Telephonic Notification of Unsafe Conditions at Highway-Rail and Pathway Grade Crossings Final Rule. Amendments will be made to certain compliance dates, signage, and third-party telephone service requirements.

Timetable:

Action | Date | FR Cite
Final Rule | 01/00/13 |

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC38

361. • Locomotive Safety Standards Amendments—Response to Petitions for Reconsideration

Legal Authority: 49 U.S.C. 20701

Abstract: This rulemaking would amend and clarify certain sections of the Locomotive Safety Standards final rule that was issued on April 9, 2012. In response to eight petitions for reconsideration of the final rule, this rulemaking would amend and clarify the requirements related to remote control locomotives (RCL), locomotive alerters, and locomotive electronics. This rulemaking would also clarify how to properly record the air flow method calibration date and the duration of the audio indication for RCL.

Timetable:

Action | Date | FR Cite
Final Rule | 01/00/13 |

Regulatory Flexibility Analysis Required: Yes.

Agency Contact: Kathryn Shelton, Trial Attorney, Department of Transportation, Federal Railroad Administration, 1200 New Jersey Ave, SE., Washington, DC 20590, Phone: 202 493-6063, Email: kathryn.shelton@fra.dot.gov.

RIN: 2130-AC39

BILLING CODE 4910-06-P

DEPARTMENT OF TRANSPORTATION (DOT)

Pipeline and Hazardous Materials Safety Administration (PHMSA)

Proposed Rule Stage

362. +Pipeline Safety: Safety of On-Shore Liquid Hazardous Pipelines

Legal Authority: 49 U.S.C. 60101 et seq.

Abstract: This rulemaking would establish effective procedures that hazardous liquid operators can use to improve the protection of High Consequence Areas (HCA) and other vulnerable areas along their hazardous liquid onshore pipelines. PHMSA is considering whether changes are needed to the existing regulations covering hazardous liquid onshore pipelines, whether other areas should be included as HCAs for integrity management (IM) protections, what the repair timeframes should be for areas outside the HCAs that are assessed as part of the IM program, whether leak detection standards are necessary, valve spacing requirements are needed on new construction or existing pipelines, and PHMSA should extend regulation to certain pipelines currently exempt from regulation. The agency would also address the public safety and environmental aspects any new requirements, as well as the cost implications and regulatory burden.

Timetable:

Action | Date | FR Cite
ANPRM | 10/18/10 | 75 FR 63774
ANPRM Comment Period End | 01/18/11 |
ANPRM Comment Period Extended | 01/04/11 | 76 FR 303
ANPRM Extended Comment Period End | 02/18/11 |
NPRM | 04/00/13 |

Regulatory Flexibility Analysis Required: Yes.

Agency Contact: John A Gale, Transportation Regulations Specialist, Department of Transportation, Pipeline and Hazardous Materials Safety Administration, 1200 New Jersey Avenue SE., Washington, DC 20590, Phone: 202 366-0434, Email: john.gale@dot.gov.

RIN: 2137-AE66

363. • Pipeline Safety: Miscellaneous Amendments Related to Reauthorization and Petitions for Rulemaking (RRR)

Legal Authority: 49 U.S.C. 60101 et seq.

Abstract: This rulemaking will address miscellaneous issues that have been raised because of the reauthorization of the pipeline safety program in 2012 and petitions for rulemaking from many affected stakeholders. Some of the issues that this rulemaking would address include, renewal process for special permits, cost recovery for design reviews and incident reporting.

Timetable:

Action | Date | FR Cite
NPRM | 06/00/13 |

Regulatory Flexibility Analysis Required: Yes.

Agency Contact: John A Gale, Transportation Regulations Specialist, Department of Transportation, Pipeline and Hazardous Materials Safety Administration, 1200 New Jersey Avenue SE., Washington, DC 20590, Phone: 202 366-0434, Email: john.gale@dot.gov.

RIN: 2137-AE94

DEPARTMENT OF TRANSPORTATION (DOT)

Pipeline and Hazardous Materials Safety Administration (PHMSA)

Final Rule Stage

364. +Hazardous Materials: Revisions to Requirements for the Transportation of Lithium Batteries

Legal Authority: 49 U.S.C. 5101 et seq.

Abstract: This rulemaking would amend the Hazardous Materials Regulations to comprehensively address the safe transportation of lithium cells and batteries. The intent of the rulemaking is to strengthen the current regulatory framework by imposing more effective safeguards, including design testing to address risks related to internal short circuits, and enhanced packaging, hazard communication, and operational measures for various types and sizes of lithium batteries in specific transportation contexts. The rulemaking would respond to several recommendations issued by the National Transportation Safety Board.

Timetable:

Action | Date | FR Cite
NPRM | 01/11/10 | 75 FR 1302
NPRM Comment Period End | 03/12/10 |
Final Rule | 01/00/13 |

Regulatory Flexibility Analysis Required: Yes.

Agency Contact: Kevin Leary, Transportation Specialist, Department of Transportation, Pipeline and Hazardous Materials Safety Administration, 1200 New Jersey Avenue SE., Washington, DC 20590, Phone: 202 366-8553, Email: kevin.leary@dot.gov.

RIN: 2137-AE44

365. Hazardous Materials: Miscellaneous Amendments (RRR) (Section 610 Review)

Legal Authority: 49 U.S.C. 5101 et seq.

Abstract: This rulemaking would update and clarify existing requirements by incorporating changes into the Hazardous Materials Regulations (HMR) based on PHMSA's own initiatives through an extensive review of the HMR and previously issued letters of interpretation. Specifically, among other provisions, PHMSA would provide for the continued use of approvals until final administrative action is taken, when a correct and completed application for approval renewal was received 60 days prior to expiration date; update various entries in the hazardous materials table and the corresponding special provisions; clarify the lab pack requirements for temperature controlled materials; correct an error in the HMR with regard to the inspection of cargo tank motor vehicles containing corrosive materials; and revise the training requirements to require that hazardous materials employers ensure their hazardous materials employee training records are available upon request to an authorized official of the Department of Transportation or the Department of Homeland Security.

Timetable:

Action | Date | FR Cite
NPRM | 04/26/12 | 77 FR 24885
NPRM Comment Period End | 06/25/12 |
Final Rule | 01/00/13 |

Regulatory Flexibility Analysis Required: No.

Agency Contact: Robert Benedict, Transportation Regulations Specialist, Department of Transportation, Pipeline and Hazardous Materials Safety Administration, 1200 New Jersey Avenue SE., Washington, DC 20590, Phone: 202-366-8553, Email: robert.benedict@dot.gov.

RIN: 2137-AE78

BILLING CODE 4910-60-P

DEPARTMENT OF TRANSPORTATION (DOT)

Maritime Administration (MARAD)

Long-Term Actions

366. +Regulations To Be Followed by All Departments, Agencies and Shippers Having Responsibility to Provide a Preference for U.S.-Flag Vessels in the Shipment of Cargoes on Ocean Vessels (RRR)

Legal Authority: 49 CFR 1.66; 46 app U.S.C. 1101; 46 app U.S.C. 1241; 46 U.S.C. 2302 (e)(1); Pub. L. 91-469

Abstract: This rulemaking would revise and clarify the Cargo Preference rules that have not been revised substantially since 1971. Revisions would include an updated purpose and definitions section along with the removal of obsolete provisions. This rulemaking also would establish a new Part 383 to implement the Cargo Preference regulations. This rulemaking would cover Public Law 110-417, section 3511, National Defense Authorization Act for FY2009 changes to the cargo preference rules. The rulemaking also would include compromise, assessment, mitigation, settlement, and collection of civil penalties. Originally the agency had two separate rulemakings in process under RIN 2133-AB74 and 2133-AB75. RIN 2133-AB74 would have revised existing regulations and RIN 2133-AB75 would have established a new part 383: Guidance and Civil Penalties and implement Public Law 110-417, section 3511, National Defense Authorization Act for FY 2009. MARAD has decided it would be more efficient to merge both efforts under one; RIN 2133-AB75 has been merged with this action.

Timetable: Next Action Undetermined.

Regulatory Flexibility Analysis Required: Yes.

Agency Contact: Christine Gurland, Department of Transportation, Maritime Administration, 1200 New Jersey Ave SE., Washington, DC 20590, Phone: 202 366-5157, Email: christine.gurland@dot.gov.

RIN: 2133-AB74

[FR Doc. 2012-31500 Filed 1-7-13; 8:45 am]

BILLING CODE 4910-81-P